DEPARTMENT OF THE INTERIOR

National Park Service

[NPS-WASO-NRNHL-0512-10390; 2200-3200-665]

National Register of Historic Places; Notification of Pending Nominations and Related Actions

Nominations for the following properties being considered for listing or related actions in the National Register were received by the National Park Service before May 12, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by June 26, 2012. Before including your address, phone number, email address, or other personal identifying information in your comment, you should be aware that your entire comment—including your personal identifying information—may be made publicly available at any time. While you can ask us in your comment to withhold your personal identifying information from public review, we cannot guarantee that we will be able to do so.

Dated: May 22, 2012.
J. Paul Loether,
Chief, National Register of Historic Places/National Historic Landmarks Program.

ARKANSAS

Pulaski County

Donaghey Building, 103 E. 7th St, 703 S. Main St., Little Rock, 12000355

CONNECTICUT

Fairfield County

Kellogg, Enos, House, 210 Ponus Ave. Ext., Norwalk, 12000356

LeRoy Shirt Company Factory, 11 Chestnut St., Norwalk, 12000357

Hartford County

Congregational Church of Plainville, 130 W. Main St., Plainville, 12000358

Hotel America, 5 Constitution Ave., Hartford, 12000359

Kensington Grammar School—Jean E. Hooker High School, 462 Alling St., Berlin, 12000360

Litchfield County

Anderson, Leroy, House, 33 Grassy Hill Rd., Woodbury, 12000361

FLORIDA

Monroe County

African Cemetery at Higgs Beach, 1001 Atlantic Blvd., Key West, 12000362

Pinellas County

Bay Pines Veterans Administration Home and Hospital Historic District, (United States Second Generation Veterans Hospitals MPS) 10000 Bay Pines Blvd., Bay Pines, 12000363

Sarasota County

Rudolph, Paul, Sarasota High School Addition, (Sarasota School of Architecture MPS) 1000 School Ave., S., Sarasota, 12000365

St. Johns County

Constitution Obelisk, Plaza de la Constitution, St. Augustine, 12000364

NEW YORK

Columbia County

Baldwin, Daniel and Clarissa, House, 1018 Dugway Rd., Spencertown, 12000366

Niagara County

First Presbyterian Manse, 162 Buffalo Ave., Niagara Falls, 12000367

Washington County

Maxwell Farm, 311 Cty. Rd. 61, Jackson, 12000368

Wyoming County

First Free Will Baptist Church of Pike, 72 Main St., Pike, 12000369

SOUTH CAROLINA

Cherokee County

Mulberry Chapel Methodist Church, 582 Asbury Rd., Pacolet, 12000370

Greenville County

Montgomery, E.W., Cotton Warehouse, 806 Green Ave., Greenville, 12000371

Taylor, Earle R., House and Peach Packing Shed, 1001 Locust Hill Rd., Greer, 12000372

Spartanburg County

Evans, Frank, High School, 142 S. Dean St., Spartanburg, 12000373

VIRGINIA

Hampton Independent city

NASA Langley Research Center Historic District, Roughly bounded by Wythe Creek Rd., Commander Shepard Blvd., Brick Kiln Cr., & Langley AFB, Hampton (Independent City), 12000374

[FR Doc. 2012-14029 Filed 6-8-12; 8:45 am]

BILLING CODE 4312-51-P